DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension of the information collection requirements of the collection: Office of Federal Contract Compliance Programs Complaint Form (CC-4). A copy of the proposed information collection request can be obtained by contacting the office listed below in the addresses section of this Notice.

DATES: Written comments must be submitted to the office listed in the addresses section below on or before September 18, 2007.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION:

I. Background

This information collection request covers the recordkeeping and reporting requirements for the Office of Federal Contract Compliance Programs (OFCCP) Complaint Form CC-4, Complaint of Discrimination in Employment under Federal Government Contracts. This information collection is currently approved for use through January 31, 2008.

The OFCCP is responsible for the administration of three equal opportunity programs prohibiting employment discrimination and requiring affirmative action on the basis of race, color, sex, religion, national origin, or status as a qualified individual with a disability or protected veteran: Executive Order 11246, as amended (Executive Order); Section 503 of the Rehabilitation Act of 1973, as amended (Section 503); and the affirmative action provisions of the Vietnam Era Veterans' Readjustment Assistance Act of 1974, as amended (VEVRAA). The regulations implementing the Executive Order program are found at 41 CFR Parts 60-1, 60-2, 60-3, 60-4, 60-20, 60-30, 60-40, and 60-50. The regulations implementing Section 503 are published at 41 CFR part 60-741. The regulations implementing VEVRAA are found at 41 CFR part 60-250.

All three programs give employees and applicants for employment with Federal contractors the right to file a complaint of discrimination. It is well established, however, that no private right of action exists under the three programs. The exclusive remedy for complaints is the administrative procedures of the U.S. Department of Labor. These procedures are initiated by filing a written complaint, using the Complaint Form CC-4, Complaint of Discrimination in Employment under Federal Government Contracts. The Form CC-4 is used to file a complaint under all three laws enforced by OFCCP.

Under the Executive Order, the authority for collection of complaint information is Section 206(b). The implementing regulations which specify the content of this information collection are found at 41 CFR 60-1.23(a). Section 503 provides the authority for collecting complaint information at 41 CFR 60-741.61. The implementing regulations which specify the content of this information collection are found at 41 CFR 60-741.61(c).

Under VEVRAA, the authority for collecting complaints information is at 38 U.S.C. 4212(d). The implementing regulations which specify the content of this information collection are found at 41 CFR 60-250.61(b). The Jobs for Veterans Act (JVA) enacted in 2002 changed the categories of veterans protected under VEVRAA and consequently the categories of veterans eligible to file a complaint of discrimination. The Form CC-4 has been revised to reflect the changes required by JVA.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information in order to carry out its responsibility to enforce the affirmative action and anti-discrimination provisions of the three Acts, which it administers.

Type of Review: Extension.

Agency: Employment Standards Administration.

Title: Office of Federal Contract Compliance Programs Complaint Form.

OMB Number: 1215-0131.

Agency Number: CC-4.

Affected Public: Individuals or households.

Total Respondents: 594.

Total Annual Responses: 594.

Average Time per Response: 1.28 hours.

Estimated Total Burden Hours: 760.

Frequency: On occasion.

Total Burden Cost (capital/startup): $0.

Total Burden Cost (operating/maintenance): 261.36

Comments submitted in response to this notice will be summarized and/or included in the request for Office of Management and Budget approval of the information collection request; they will also become a matter of public record.

Dated: July 16, 2007.
Hazel Bell,
Acting Chief, Branch of Management Review and Internal Control, Division of Financial Management, Office of Management, Administration and Planning, Employment Standards Administration.

[FR Doc. E7-14039 Filed 7-19-07; 8:45 am]

BILLING CODE 4510-CM-P